DEPARTMENT OF DEFENSE

Office of the Secretary

[Docket ID DoD-2014-OS-0084]

Proposed Collection; Comment Request

AGENCY: National Guard Bureau, DoD.

ACTION: Notice.

SUMMARY: In compliance with Section 3506(c)(2)(A) of the Paperwork Reduction Act of 1995, the National Guard Bureau (NGB), Directorate of Management (DM) announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 4, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the National Guard, Manpower and Personnel Division (NG-J1), ATTN: Mr. Mark Woods. 111 S George Mason Dr. Arlington, VA 22204.

SUPPLEMENTARY INFORMATION: Title; Associated Form; and OMB Number: Joint Services Support (JSS) System; 0704-XXXX.

Needs and Uses: The information collection requirement is necessary for the National Guard Bureau and its participating programs (Yellow Ribbon Reintegration Program (Guard and Reserve component-wide), Family Program, Employer Support Program, financial Management Awareness Program, Sexual Assault Prevention and Response Program, Psychological Health Program, and Warrior Support Program) to ensure key activities may be associated with system-registrants for program management, accountability, reporting and support purposes. Examples of use of such information include, validating event registration and attendance, enabling users to login to system to facilitate outreach and communication activities, enabling leadership across the participating programs, with oversight and reporting.

In addition, JSS plans on collecting Civilian Employer Information (CE) from Service members. Defense Manpower Data Center (DMDC) will be ceasing its CEI Web site as of October 1, 2012. The service components as a result have been tasked to take over the collection of CEI prior to this date.

JSS in particular helps the Yellow Ribbon Reintegration Program and (in the future) also help Employer Support for the Guard and Reserve, reporting program activities, as required by a congressional mandate.

Affected Public: Individuals or households; Federal Government; State, Locale or Tribal Government.

Annual Burden Hours: 2,000.

Number of Respondents: 12,000.

Responses per Respondent: 1.

Total Annual Responses: 12,000.

Average Burden per Response: 10 minutes.

Frequency: On Occasion.

Dated: May 30, 2014.
Aaron Siegel,
Alternate OSD Federal Register Liaison Officer, Department of Defense.

[FR Doc. 2014-12938 Filed 6-3-14; 8:45 am]

BILLING CODE 5001-06-P